DEPARTMENT OF THE INTERIOR

National Park Service

[NPS-NCR-NACA-1210-6447; 3086-SYM ]

National Capital Memorial Advisory Commission; Notice of Public Meeting

AGENCY: National Park Service, Interior.

ACTION: Notice of meeting.

SUMMARY: Notice is hereby given that the National Capital Memorial Advisory Commission (the Commission) plans to meet to on Wednesday, February 16, 2011, at 11 a.m., to consult with the Dwight D. Eisenhower Memorial Commission on design concepts for the Dwight D. Eisenhower Memorial Commission.

DATES: Wednesday, February 16, 2011.

ADDRESSES: National Building Museum, Room 312, 401 F Street, NW., Washington, DC 20001.

FOR FURTHER INFORMATION CONTACT: Ms. Nancy Young, Secretary to the Commission, by telephone at (202) 619-7097, by e-mail at nancy_young@nps.gov, by telefax at (202) 619-7420, or by mail at the National Capital Memorial Advisory Commission, 1100 Ohio Drive, SW., Room 220, Washington, DC 20242.

SUPPLEMENTARY INFORMATION: The purpose of the meeting will be to consult with the Dwight D. Eisenhower Memorial Commission on design concepts for the Dwight D. Eisenhower Memorial.

The meeting will begin at 11 a.m. and is open to the public. Persons who wish to file a written statement or testify at the meeting or who want further information concerning the meeting may contact Ms. Nancy Young, Secretary to the Commission. Before including your address, phone number, e-mail address, or other personal identifying information in your comment, you should be aware that your entire comment—including your personal identifying information—may be made publicly available at any time. While you can ask us in your comment to withhold your personal identifying information from public review, we cannot guarantee that we will be able to do so.

The Commission was established by Public Law 99-652, the Commemorative Works Act (40 U.S.C. chapter 89 et seq.), to advise the Secretary of the Interior (the Secretary) and the Administrator, General Services Administration, (the Administrator) on policy and procedures for establishment of, and proposals to establish, commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC, and its environs.

The members of the Commission are as follows:

Director, National Park Service

Administrator, General Services Administration

Chairman, National Capital Planning Commission

Chairman, Commission of Fine Arts

Mayor of the District of Columbia

Architect of the Capitol Chairman,

American Battle Monuments Commission

Secretary of Defense

Dated: December 17, 2010.
Sgd. Peggy O'Dell,
Regional Director, National Capital Region.

[FR Doc. 2011-473 Filed 1-11-11; 8:45 am]

BILLING CODE 4312-JK-P